DEPARTMENT OF DEFENSE

Department of the Air Force

Notice of Record of Decision for the Environmental Impact Statement Expansion of Childcare Services North of the Eglin Test and Training Complex, Eglin Air Force Base, Florida

AGENCY: Department of the Air Force, Department of Defense.

ACTION: Notice of availability of Record of Decision.

SUMMARY: On February 26, 2025, the Department of the Air Force (DAF) signed the Record of Decision (ROD) for the Expansion of Childcare Service North of Eglin Test and Training Complex at Eglin AFB, FL Environmental Impact Statement.

ADDRESSES: Mr. Nicolas Post (AFCEC/CIEE), 2261 Hughes Avenue, STE 155, JBSA Lackland, TX 78236-9853 (380) 459-0507; nicolas.post@us.af.mil.

SUPPLEMENTARY INFORMATION: The DAF has decided to construct a new Child Development Center (CDC) to support the childcare needs of Eglin military families living north of the Eglin Test and Training Complex, Eglin AFB, FL. The new CDC will be constructed on a 14-acre parcel that the DAF will acquire from the City of Crestview, FL. The CDC will be owned by the DAF and operated by the 96th Force Support Squadron which provides base support functions at Eglin AFB.

The DAF decision documented in the ROD was based on matters discussed in the Final Environmental Impact Statement, inputs from the public and regulatory agencies, and other relevant factors. The Final Environmental Impact Statement was made available to the public on December 27, 2024, through a Notice of Availability in the Federal Register (89 FR 105604) with a waiting period that ended on January 27, 2025.

Authority: This Notice of Availability is published pursuant to the implementing the provisions of the National Environmental Policy Act (42 U.S.C. 4321 et seq.) and the Air Force's Environmental Impact Analysis Process (32 CFR 989.21(b) and 989.24(b)(7)).

Tommy W. Lee,
Acting Air Force Federal Register Liaison Officer.

[FR Doc. 2025-04767 Filed 3-19-25; 8:45 am]

BILLING CODE 3911-44-P